U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on June 8, 2018 on “U.S. Tools to Address Chinese Market Distortions.”

DATES: The hearing is scheduled for Friday, June 8, 2018 from 9:00 a.m. to 1:00 p.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale, 444 North Capitol Street NW, Suite 602, Washington DC 20001; telephone: 202-624-1496, or via email at ltisdale@uscc.gov. Reservations are not required to attend the hearing.

SUPPLEMENTARY INFORMATION:

Background: This is the sixth public hearing the Commission will hold during its 2018 report cycle. This hearing is intended to explore U.S. policy options available to address Chinese market distortions. The first panel, “A Coordinated Policy Response to Chinese State Capitalism,” will address industrial policy challenges like overcapacity, price distortions, and local content requirements. The second panel, “A Coordinated Policy Response to China's Techno-nationalism,” will focus on challenges from China's push to develop domestic-led intellectual property, including technology transfer, IP and data theft, and restrictions on cross-border data flows. The hearing will be co-chaired by Commissioner Glenn Hubbard and Commissioner Jonathan Stivers. Any interested party may file a written statement by June 8, 2018, by mailing to the contact above. A portion of each panel will include a question and answer period between the Commissioners and the witnesses.

Authority: Congress created the U.S.-China Economic and Security Review Commission in 2000 in the National Defense Authorization Act (Public Law 106-398), as amended by Division P of the Consolidated Appropriations Resolution, 2003 (Public Law 108-7), as amended by Public Law 109-108 (November 22, 2005), as amended by Public Law 113-291 (December 19, 2014).

Dated: May 16, 2018.
Kathleen Wilson,
Finance and Operations Director, U.S.-China Economic and Security Review Commission.

[FR Doc. 2018-10760 Filed 5-18-18; 8:45 am]

BILLING CODE 1137-00-P